DEPARTMENT OF THE INTERIOR

Bureau of Indian Affairs

Notice of Intent To Prepare an Environmental Impact Statement for the Proposed Ho-Chunk Nation Beloit Casino Project, City of Beloit, Rock County, WI

AGENCY: Bureau of Indian Affairs, Interior.

ACTION: Notice.

SUMMARY: This notice advises the public that the Bureau of Indian Affairs (BIA) as lead agency intends to gather information necessary for preparing an Environmental Impact Statement (EIS) in connection with the Ho-Chunk Nation (Nation) application for a proposed 33-acre fee-to-trust transfer and casino project to be located in the City of Beloit, Rock County, Wisconsin. This notice also announces a public scoping meeting to identify potential issues and content for inclusion in the EIS.

DATES: Written comments on the scope of the EIS must arrive by December 26, 2012. The public scoping meeting will be held on December 13, 2012, from 6 p.m. until the last public comment is received.

ADDRESSES: You may mail or hand carry written comments to Ms. Diane Rosen, Midwest Regional Director, Bureau of Indian Affairs, Midwest Region, Norman Pointe II Building, 5600 West American Boulevard, Suite 500, Bloomington, MN 55347. Please include your name, return address, and “DEIS Scoping Comments, Ho-Chunk Nation Beloit Casino Project” on the first page of your written comments. The public scoping meeting will be held at Aldrich Middle School, 1859 Northgate Drive, Beloit, Wisconsin 53511.

FOR FURTHER INFORMATION CONTACT: Scott Doig, Environmental Protection Specialist, Bureau of Indian Affairs, Midwest Region, Norman Pointe II Building, 5600 West American Boulevard, Suite 500, Bloomington, MN 55347; Phone (612) 725-4514.

SUPPLEMENTARY INFORMATION: The proposed action would transfer approximately 33 acres of land from fee to trust status, upon which the Nation would develop a casino, hotel, parking, and other supporting facilities. The property is located within the incorporated boundaries of the City of Beloit, Wisconsin. Areas of environmental concern identified for analysis in the EIS include land resources, water resources, air quality, noise, biological resources, cultural resources, resource use patterns, traffic and transportation, public health/environmental hazards, public services and utilities, socioeconomics, environmental justice, and visual resources/aesthetics. Alternatives identified for analysis include the proposed action, a no-action commercial (non-gaming) construction alternative, a no-action no-construction alternative, a reduced-intensity development alternative, and an alternative site location alternative. The range of issues and alternatives are open to revision based on comments received in response to this notice. Additional information, including a map of the project site, is available by contacting the person listed in the FOR FURTHER INFORMATION CONTACT section of this notice. Other related approvals may be required to implement the project, including approval of the Nation's fee-to-trust application, determination of the site's eligibility for gaming, compliance with the Clean Water Act, and local service agreements. To the extent applicable, the EIS will identify and evaluate issues related to these approvals.

Public Comment Availability: Comments, including names and addresses of respondents, will be available for public review at the BIA address shown in the ADDRESSES section, during regular business hours, 8 a.m. to 4:30 p.m., Monday through Friday, except holidays. Before including your address, phone number, email address, or other personal identifying information in your comment, you should be aware that your entire comment—including your personal identifying information—may be made publicly available at any time. While you can ask in your comment that your personal identifying information be withheld from public review, the BIA cannot guarantee that this will occur.

Authority: This notice is published in accordance with sections 1503.1 and 1506.6 of the Council on Environmental Quality Regulations (40 CFR parts 1500 through 1508) implementing the procedural requirements of the National Environmental Policy Act of 1969, as amended (42 U.S.C. 4321 et seq.), and the Department of the Interior National Environmental Policy Act Implementation Policy (43 CFR part 46), and is in the exercise of authority delegated to the Assistant Secretary—Indian Affairs by 209 DM 8.

Dated: September 20, 2012.
Donald E. Laverdure,
Acting Assistant Secretary—Indian Affairs.

[FR Doc. 2012-28551 Filed 11-23-12; 8:45 am]

BILLING CODE P